DEPARTMENT OF ENERGY

Federal Energy Regulatory Commission

Combined Notice of Filings #2

Take notice that the Commission received the following electric rate filings:

Docket Numbers: ER11-2119-000.

Applicants: Entergy Texas, Inc.

Description: Refund Report—Docket No. ER11-2161, to be effective N/A.

Filed Date: 7/9/13.

Accession Number: 20130709-5074.

Comments Due: 5 p.m. ET 7/30/13.

Docket Numbers: ER11-3643-006.

Applicants: PacifiCorp.

Description: OATT Revised Sections per Transmission Rate Case Further Compliance Filing to be effective 12/25/2011.

Filed Date: 7/9/13.

Accession Number: 20130709-5072.

Comments Due: 5 p.m. ET 7/30/13.

Docket Numbers: ER13-1225-000; ER13-1226-000.

Applicants: Midcontinent Independent System Operator, Inc.

Description: Midcontinent Independent System Operator, Inc. submits its response to the Commission's Letter Order dated May 30, 2013 requesting MISO to provide additional information.

Filed Date: 6/27/13.

Accession Number: 20130627-5074.

Comments Due: 5 p.m. ET 7/18/13.

Docket Numbers: ER13-1910-000.

Applicants: Guzman Power Markets.

Description: GPM FERC Filing Transmittal Letter to be effective 8/20/2013.

Filed Date: 7/9/13.

Accession Number: 20130709-5048.

Comments Due: 5 p.m. ET 7/30/13.

Docket Numbers: ER13-1911-000.

Applicants: PJM Interconnection, L.L.C.

Description: OATT Sch 6A re Black Start Service System Restoration Planning Improvements to be effective 9/9/2013.

Filed Date: 7/9/13.

Accession Number: 20130709-5085.

Comments Due: 5 p.m. ET 7/30/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 9, 2013.
Nathaniel J. Davis, Sr.,
Deputy Secretary.

[FR Doc. 2013-17010 Filed 7-15-13; 8:45 am]

BILLING CODE 6717-01-P